DEPARTMENT OF HOMELAND SECURITY

Coast Guard

33 CFR Part 165

[Docket No. USCG-2012-0045]

RIN 1625-AA00

Safety Zones; Annual Events Requiring Safety Zones in the Captain of the Port Lake Michigan Zone

AGENCY: Coast Guard, DHS.

ACTION: Notice of proposed rulemaking.

SUMMARY: The Coast Guard proposes amend its regulations requiring safety zones in the Captain of the Port Lake Michigan zone. This proposed rule is intended to amend the rules that restrict vessels from portions of water areas during events that pose a hazard to public safety. The safety zones amended or established by this proposed rule are necessary to protect spectators, participants, and vessels from the hazards associated with various maritime events.

DATES: Comments and related materials must be received by the Coast Guard on or before March 28, 2012.

ADDRESSES: You may submit comments identified by docket number USCG-2012-0045 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email BM1 Adam Kraft, Prevention Department, Coast Guard, Sector Lake Michigan, Milwaukee, WI, telephone (414) 747-7154, email Adam.D.Kraft@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2012-0045), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2012-0045” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2012-0045” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one the using one of the four methods specified under ADDRESSES. Please explain why you believe a public meeting would be beneficial. If we determine that one would aid this rulemaking, we will hold one at a time and place announced by a later notice in the Federal Register.

Background and Purpose

Currently, 33 CFR 165.929 lists seventy different locations in the Captain of the Port Lake Michigan zone at which safety zones have been permanently established. Each of these seventy safety zones corresponds to an annually recurring marine event. During an annual review of 33 CFR 165.929 it was found that the details of two of the annually recurring events have changed. It was also determined that five additional recurring marine events require the implementation of permanent safety zones. This proposed rule will revise the enforcement date and time of two events and add five reccurring events that require safety zones. In addition, this proposed rule will revise the organizational structure of 33 CFR 165.929 so that the events will be listed numerically rather than alphabetically. Listing the events numerically is meant to make it easier for the public to identify the annual events requiring safety zones in the Captain of the Port Lake Michigan zone.

Discussion of Proposed Rule

This proposed rule will amend the regulations found in 33 CFR 165.929, Annual Events requiring safety zones in the Captain of the Port Lake Michigan zone. Specifically, this proposed rule will revise § 165.929 in its entirety. The revision will include the modification of the name and enforcement period of one safety zone, the enforcement period of one safety zone, and the addition of five new safety zones. Each of the existing and proposed safety zones are necessary to protect vessels and people from the hazards associated with various maritime events. Such hazards include obstructions to the navigable channels, explosive dangers associated with various maritime events. Although this proposed rule will remain in effect year round, the safety zones within it will be enforced only immediately before, during, and after each corresponding marine event.

The Captain of the Port Lake Michigan will use all appropriate means to notify the public when the zones in this proposal will be enforced. Consistent with 33 CFR 165.7(a), such means of may include, among other things, publication in the Federal Register and Broadcast Notice to Mariners or Local Notice to Mariners. The Captain of the Port will issue a Broadcast Notice to Mariners notifying the public when enforcement of a safety zone in this section is cancelled.

Entry into, transiting, or anchoring within each of the below safety zone is prohibited unless authorized by the Captain of the Port Lake Michigan, or his designated representative. The Captain of the Port or his designated representative may be contacted via VHF Channel 16.

Regulatory Analyses

We developed this proposed rule after considering numerous statutes and executive orders related to rulemaking. Below we summarize our analyses based on 13 of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders. It is not “significant” under the regulatory policies and procedures of the Department of Homeland Security (DHS). We conclude that this proposed rule is not a significant regulatory action because we anticipate that it will have minimal impact on the economy, will not interfere with other agencies, will not adversely alter the budget of any grant or loan recipients, and will not raise any novel legal or policy issues. The safety zones amended and established by this proposed rule will be relatively small and enforced for relatively short time. Also, each safety zone is designed to minimize its impact on navigable waters. Furthermore, each safety zone has been designed to allow vessels to transit unrestricted to portions of the waterways not affected by the safety zones. Thus, restrictions on vessel movements within that particular area are expected to be minimal. Under certain conditions, moreover, vessels may still transit through each safety zone when permitted by the Captain of the Port, Sector Lake Michigan. On the whole, the Coast Guard expects insignificant adverse impact to mariners from the activation of these safety zones.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners and operators of vessels intending to transit or anchor in any one of the below safety zones while the safety zone is being enforced. The below safety zones will not have a significant economic impact on a substantial number of small entities for the following reasons: each safety zone in this proposed rule will be in effect for only a few hours within any given 24 hour period. Each of the safety zones will be in effect only once per year. Furthermore, these safety zones have been designed to allow traffic to pass safely around each zone. Moreover, vessels will be allowed to pass through each zone at the discretion of the Captain of the Port, Sector Lake Michigan, or his or her designated representative.

If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If this proposed rule would affect your small business, organization, or governmental jurisdiction and you have questions concerning its provisions or options for compliance, please contact BM1 Adam Kraft, Prevention Department, Coast Guard Sector Lake Michigan, Milwaukee, WI at (414) 747-7154. The Coast Guard will not retaliate against small entities that question or complain about this proposed rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this proposed rule elsewhere in this preamble.

Taking of Private Property

This proposed rule will not affect the taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and would not create an environmental risk to health or risk to safety that might disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule involves the establishing of security zones and therefore, is categorically excluded under paragraph 34(g) of the Instruction. A preliminary environmental analysis checklist supporting this preliminary determination is available in the docket where indicated under ADDRESSES. We seek any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise § 165.929 to read as follows:

§ 165.929 Safety Zones; Annual events requiring safety zones in the Captain of the Port Lake Michigan zone.

(a) Safety Zones. The following are designated as safety zones:

(1) St. Patrick's Day Fireworks; Manitowoc, WI.

(i) Location. All waters of the Manitowoc River and Manitowoc Harbor, near the mouth of the Manitowoc River on the south shore, within the arc of a circle with a 100-foot radius from the fireworks launch site located in position 44°05′30″ N, 087°39′12″ W (NAD 83).

(ii) Enforcement date and time. The third Saturday of March; 5:30 p.m. to 7 p.m.

(2) Michigan Aerospace Challenge Sport Rocket Launch; Muskegon, MI.

(i) Location. All waters of Muskegon Lake, near the West Michigan Dock and Market Corp facility, within the arc of a circle with a 1500-yard radius from the rocket launch site located in position 43°14′21″ N, 086°15′35″ W (NAD 83).

(ii) Enforcement date and time. The last Saturday of April; 8 a.m. to 4 p.m.

(3) Tulip Time Festival Fireworks; Holland, MI.

(i) Location. All waters of Lake Macatawa, near Kollen Park, within the arc of a circle with a 1000-foot radius from the fireworks launch site in position 42°47′23″ N, 086°07′22″ W (NAD 83).

(ii) Enforcement date and time. The first Friday of May; 7 p.m. to 11 p.m. If the Friday fireworks are cancelled due to inclement weather, then this safety zone will be enforced on the first Saturday of May; 7 p.m. to 11 p.m.

(4) Rockets for Schools Rocket Launch; Sheboygan, WI.

(i) Location. All waters of Lake Michigan and Sheboygan Harbor, near the Sheboygan South Pier, within the arc of a circle with a 1500-yard radius from the rocket launch site located with its center in position 43°44′55″ N, 087°41′52″ W (NAD 83).

(ii) Enforcement date and time. The first Saturday of May; 8 a.m. to 5 p.m.

(5) Celebrate De Pere; De Pere, WI.

(i) Location. All waters of the Fox River, near Voyageur Park, within the arc of a circle with a 500-foot radius from the fireworks launch site located in position 44°27′10″ N, 088°03′50″ W (NAD 83).

(ii) Enforcement date and time. The Sunday before Memorial Day; 8:30 p.m. to 10 p.m.

(6) Michigan Super Boat Grand Prix; Michigan City, IN.

(i) Location. All waters of Lake Michigan in the vicinity of Michigan City, IN, bound by a line drawn from 41°43′42″ N, 086°54′18″ W; then north to 41°43′49″ N, 086°54′31″ W; then east to 41°44′48″ N, 086°51′45″ W; then south to 41°44′42″ N, 086°51′31″ W; then west returning to the point of origin. (NAD 83)

(ii) Enforcement date and time. The first Sunday of August; 9 a.m. to 4 p.m.

(7) River Splash; Milwaukee, WI.

(i) Location. All waters of the Milwaukee River, near Pere Marquette Park, within the arc of a circle with a 300-foot radius from the fireworks launch site located on a barge in position 43°02′32″ N, 087°54′45″ W (NAD 83).

(ii) Enforcement date and time. The first Friday and Saturday of June; 9 p.m. to 11 p.m. each day.

(8) International Bayfest; Green Bay, WI.

(i) Location. All waters of the Fox River, near the Western Lime Company 1.13 miles above the head of the Fox River, within the arc of a circle with a 1000-foot radius from the fireworks launch site located in position 44°31′24″ N, 088°00′42″ W (NAD 83).

(ii) Enforcement date and time. The second Friday of June; 9 p.m. to 11 p.m.

(9) Harborfest Music and Family Festival; Racine, WI.

(i) Location. All waters of Lake Michigan and Racine Harbor, near the Racine Launch Basin Entrance Light, within the arc of a circle with a 200-foot radius from the fireworks launch site located in position 42°43′43″ N, 087°46′40″ W (NAD 83).

(ii) Enforcement date and time. Friday and Saturday of the third complete weekend of June; 9 p.m. to 11 p.m. each day.

(10) Spring Lake Heritage Festival Fireworks; Spring Lake, MI.

(i) Location. All waters of the Grand River, near buoy 14A, within the arc of a circle with a 500-foot radius from the fireworks launch site located on a barge in position 43°04′24″ N, 086°12′42″ W (NAD 83).

(ii) Enforcement date and time. The third Saturday of June; 9 p.m. to 11 p.m.

(11) Elberta Solstice Festival Fireworks; Elberta, MI.

(i) Location. All waters of Betsie Bay, near Waterfront Park, within the arc of a circle with a 500-foot radius from the fireworks launch site located in position 44°37′43″ N, 086°14′27″ W (NAD 83).

(ii) Enforcement date and time. The last Saturday of June; 9 p.m. to 11 p.m.

(12) Pentwater July Third Fireworks; Pentwater, MI.

(i) Location. All waters of Lake Michigan and the Pentwater Channel within the arc of a circle with a 1000-foot radius from the fireworks launch site located in position 43°46′57″ N, 086°26′38″ W (NAD 83).

(ii) Enforcement date and time. July 3; 9 p.m. to 11 p.m. If the July 3 fireworks are cancelled due to inclement weather, then this safety zone will be enforced July 4; 9 p.m. to 11 p.m.

(13) Taste of Chicago Fireworks; Chicago, IL.

(i) Location. All waters of Monroe Harbor and all waters of Lake Michigan bounded by a line drawn from 41°53′24″ N, 087°35′59″ W; then east to 41°53′15″ N, 087°35′26″ W; then south to 41°52′49″ N, 087°35′26″ W; then southwest to 41°52′27″ N, 087°36′37″ W; then north to 41°53′15″ N, 087°36′33″ W; then east returning to the point of origin (NAD 83).

(ii) Enforcement date and time. July 3; 9 p.m. to 11 p.m. If the July 3 fireworks are cancelled due to inclement weather, then this safety zone will be enforced July 4; 9 p.m. to 11 p.m.

(14) U.S. Bank Fireworks; Milwaukee, WI.

(i) Location. All waters and adjacent shoreline of Milwaukee Harbor, in the vicinity of Veteran's park, within the arc of a circle with a 1200-foot radius from the center of the fireworks launch site which is located on a barge with its approximate position located at 43°02′22″ N, 087°53′29″ W (NAD 83).

(ii) Enforcement date and time. July 3; 9 p.m. to 11 p.m. If the July 3 fireworks are cancelled due to inclement weather, then this safety zone will be enforced July 4; 9 p.m. to 11 p.m.

(15) Independence Day Fireworks; Manistee, MI.

(i) Location. All waters of Lake Michigan, in the vicinity of the First Street Beach, within the arc of a circle with a 1000-foot radius from the fireworks launch site located in position 44°14′51″ N, 086°20′46″ W (NAD 83).

(ii) Enforcement date and time. July 3; 9 p.m. to 11 p.m. If the July 3 fireworks are cancelled due to inclement weather, then this safety zone will be enforced July 4; 9 p.m. to 11 p.m.

(16) Frankfort Independence Day Fireworks; Frankfort, MI.

(i) Location. All waters of Lake Michigan and Frankfort Harbor, bounded by a line drawn from 44°38′05″ N, 086°14′50″ W; then south to 44°37′39″ N, 086°14′50″ W; then west to 44°37′39″ N, 086°15′20″ W; then north to 44°38′05″ N, 086°15′20″ W; then east returning to the point of origin (NAD 83).

(ii) Enforcement date and time. July 4; 9 p.m. to 11 p.m. If the July 4 fireworks are cancelled due to inclement weather, then this safety zone will be enforced July 5; 9 p.m. to 11 p.m.

(17) Freedom Festival Fireworks; Ludington, MI.

(i) Location. All waters of Lake Michigan and Ludington Harbor, in the vicinity of the Loomis Street Boat Ramp, within the arc of a circle with a 1000-foot radius from the fireworks launch site located in position 43°57′16″ N, 086°27′42″ W (NAD 83).

(ii) Enforcement date and time. July 4; 9 p.m. to 11 p.m. If the July 4 fireworks are cancelled due to inclement weather, then this safety zone will be enforced July 5; 9 p.m. to 11 p.m.

(18) White Lake Independence Day Fireworks; Montague, MI.

(i) Location. All waters of White Lake, in the vicinity of the Montague boat launch, within the arc of a circle with a 1000-foot radius from the fireworks launch site located in position 43°24′33″ N, 086°21′28″ W (NAD 83).

(ii) Enforcement date and time. July 4; 9 p.m. to 11 p.m. If the July 4 fireworks are cancelled due to inclement weather, then this safety zone will be enforced July 5; 9 p.m. to 11 p.m.

(19) Muskegon Summer Celebration July Fourth Fireworks; Muskegon, MI.

(i) Location. All waters of Muskegon Lake, in the vicinity of Heritage Landing, within the arc of a circle with a 1000-foot radius from a fireworks launch site located on a barge in position 43°14′00″ N, 086°15′50″ W (NAD 83).

(ii) Enforcement date and time. July 4; 9 p.m. to 11 p.m. If the July 4 fireworks are cancelled due to inclement weather, then this safety zone will be enforced July 5; 9 p.m. to 11 p.m.

(iii) Impact on Special Anchorage Area regulations: Regulations for that portion of the Muskegon Lake East Special Anchorage Area, as described in 33 CFR 110.81(b), which are overlapped by this regulation, are suspended during this event. The remaining area of the Muskegon Lake East Special Anchorage Area not impacted by this regulation remains available for anchoring during this event.

(20) Grand Haven Jaycees Annual Fourth of July Fireworks; Grand Haven, MI.

(i) Location. All waters of The Grand River between longitude 087°14′00″ W, near The Sag, then west to longitude 087°15′00″ W, near the west end of the south pier (NAD 83).

(ii) Enforcement date and time. July 4; 9 p.m. to 11 p.m. If the July 4 fireworks are cancelled due to inclement weather, then this safety zone will be enforced July 5; 9 p.m. to 11 p.m.

(21) Celebration Freedom Fireworks; Holland, MI.

(i) Location. All waters of Lake Macatawa, in the vicinity of Kollen Park, within the arc of a circle with a 1000-foot radius from the fireworks launch site located in position 42°47′23″ N, 086°07′22″ W (NAD 83).

(ii) Enforcement date and time. July 4, 2007; 9 p.m. to 11 p.m. Thereafter, this section will be enforced the Saturday prior to July 4; 9 p.m. to 11 p.m. If the fireworks are cancelled due to inclement weather, then this safety zone will be enforced the Sunday prior to July 4; 9 p.m. to 11 p.m.

(22) Van Andel Fireworks Show; Holland, MI.

(i) Location. All waters of Lake Michigan and the Holland Channel within the arc of a circle with a 1000-foot radius from the fireworks launch site located in position 42°46′21″ N, 086°12′48″ W (NAD 83).

(ii) Enforcement date and time. July 3; 9 p.m. to 11 p.m. If the July 3 fireworks are cancelled due to inclement weather, then this safety zone will be enforced July 4; 9 p.m. to 11 p.m.

(23) Independence Day Fireworks; Saugatuck, MI.

(i) Location. All waters of Kalamazoo Lake within the arc of a circle with a 1000-foot radius from the fireworks launch site in position 42°38′52″ N, 086°12′18″ W (NAD 83).

(ii) Enforcement date and time. July 4; 9 p.m. to 11 p.m. If the July 4 fireworks are cancelled due to inclement weather, then this safety zone will be enforced July 5; 9 p.m. to 11 p.m.

(24) South Haven Fourth of July Fireworks; South Haven, MI.

(i) Location. All waters of Lake Michigan and the Black River within the arc of a circle with a 1000-foot radius from the fireworks launch site located in position 42°24′08″ N, 086°17′03″ W (NAD 83).

(ii) Enforcement date and time. July 4; 9 p.m. to 11 p.m. If the July 4 fireworks are cancelled due to inclement weather, then this safety zone will be enforced July 5; 9 p.m. to 11 p.m.

(25) St. Joseph Fourth of July Fireworks; St. Joseph, MI.

(i) Location. All waters of Lake Michigan and the St. Joseph River within the arc of a circle with a 1000-foot radius from the fireworks launch site located in position 42°06′48″ N, 086°29′5″ W (NAD 83).

(ii) Enforcement date and time. July 4; 9 p.m. to 11 p.m. If the July 4 fireworks are cancelled due to inclement weather, then this safety zone will be enforced July 5; 9 p.m. to 11 p.m.

(26) Town of Dune Acres Independence Day Fireworks; Dune Acres, IN.

(i) Location. All waters of Lake Michigan within the arc of a circle with a 1000-foot radius from the fireworks launch site located in position 41°39′23″ N, 087°04′59″ W (NAD 83).

(ii) Enforcement date and time. July 4; 9 p.m. to 11 p.m. If the July 4 fireworks are cancelled due to inclement weather, then this safety zone will be enforced July 5; 9 p.m. to 11 p.m.

(27) Gary Fourth of July Fireworks; Gary, IN.

(i) Location. All waters of Lake Michigan, approximately 2.5 miles east of Gary Harbor, within the arc of a circle with a 500-foot radius from the fireworks launch site located in position 41°37′19″ N, 087°14′31″ W (NAD 83).

(ii) Enforcement date and time. July 4; 9 p.m. to 11 p.m. If the July 4 fireworks are cancelled due to inclement weather, then this safety zone will be enforced July 5; 9 p.m. to 11 p.m.

(28) Joliet Independence Day Celebration Fireworks; Joliet, IL.

(i) Location. All waters of the Des Plains River, at mile 288, within the arc of a circle with a 500-foot radius from the fireworks launch site located in position 41°31′31″ N, 088°05′15″ W (NAD 83).

(ii) Enforcement date and time. July 3; 9 p.m. to 11 p.m. If the July 3 fireworks are cancelled due to inclement weather, then this safety zone will be enforced July 4; 9 p.m. to 11 p.m.

(29) Glencoe Fourth of July Celebration Fireworks; Glencoe, IL.

(i) Location. All waters of Lake Michigan, in the vicinity of Lake Front Park, within the arc of a circle with a 500-foot radius from the fireworks launch site located in position 42°08′17″ N, 087°44′55″ W (NAD 83).

(ii) Enforcement date and time. July 4; 9 p.m. to 11 p.m. If the July 4 fireworks are cancelled due to inclement weather, then this safety zone will be enforced July 5; 9 p.m. to 11 p.m.

(30) Lakeshore Country Club Independence Day Fireworks; Glencoe, IL.

(i) Location. All waters of Lake Michigan within the arc of a circle with a 1000-foot radius from the fireworks launch site located in position 42°08′27″ N, 087°44′57″ W (NAD 83).

(ii) Enforcement date and time. July 4; 9 p.m. to 11 p.m. If the July 4 fireworks are cancelled due to inclement weather, then this safety zone will be enforced July 5; 9 p.m. to 11 p.m.

(31) Shore Acres Country Club Independence Day Fireworks; Lake Bluff, IL.

(i) Location. All waters of Lake Michigan, approximately one mile north of Lake Bluff, IL, within the arc of a circle with a 1000-foot radius from the fireworks launch site located in position 42°17′59″ N, 087°50′03″ W (NAD 83).

(ii) Enforcement date and time. July 4; 9 p.m. to 11 p.m. If the July 4 fireworks are cancelled due to inclement weather, then this safety zone will be enforced July 5; 9 p.m. to 11 p.m.

(32) Kenosha Independence Day Fireworks; Kenosha, WI.

(i) Location. All waters of Lake Michigan and Kenosha Harbor within the arc of a circle with a 1000-foot radius from the fireworks launch site located in position 42°35′17″ N, 087°48′27″ W (NAD 83).

(ii) Enforcement date and time. July 4; 9 p.m. to 11 p.m. If the July 4 fireworks are cancelled due to inclement weather, then this safety zone will be enforced July 5; 9 p.m. to 11 p.m.

(33) Fourthfest of Greater Racine Fireworks; Racine, WI.

(i) Location. All waters of Lake Michigan and Racine Harbor, in the vicinity of North Beach, within the arc of a circle with a 1000-foot radius from the fireworks launch site located in position 42°44′17″ N, 087°46′42″ W (NAD 83).

(ii) Enforcement date and time. July 4; 9 p.m. to 11 p.m. If the July 4 fireworks are cancelled due to inclement weather, then this safety zone will be enforced July 5; 9 p.m. to 11 p.m.

(34) Sheboygan Fourth of July Celebration Fireworks; Sheboygan, WI.

(i) Location. All waters of Lake Michigan and Sheboygan Harbor, in the vicinity of the south pier, within the arc of a circle with a 1000-foot radius from the fireworks launch site located in position 43°44′55″ N, 087°41′51″ W (NAD 83).

(ii) Enforcement date and time. July 4; 9 p.m. to 11 p.m. If the July 4 fireworks are cancelled due to inclement weather, then this safety zone will be enforced July 5; 9 p.m. to 11 p.m.

(35) Manitowoc Independence Day Fireworks; Manitowoc, WI.

(i) Location. All waters of Lake Michigan and Manitowoc Harbor, in the vicinity of south breakwater, within the arc of a circle with a 1000-foot radius from the fireworks launch site located in position 44°05′24″ N, 087°38′45″ W (NAD 83).

(ii) Enforcement date and time. July 4; 9 p.m. to 11 p.m. If the July 4 fireworks are cancelled due to inclement weather, then this safety zone will be enforced July 5; 9 p.m. to 11 p.m.

(36) Sturgeon Bay Independence Day Fireworks; Sturgeon Bay, WI.

(i) Location. All waters of Sturgeon Bay, in the vicinity of Sunset Park, within the arc of a circle with a 1000-foot radius from the fireworks launch site located on a barge in position 44°50′37″ N, 087°23′18″ W (NAD 83).

(ii) Enforcement date and time. July 4; 9 p.m. to 11 p.m. If the July 4 fireworks are cancelled due to inclement weather, then this safety zone will be enforced July 5; 9 p.m. to 11 p.m.

(37) Fish Creek Independence Day Fireworks; Fish Creek, WI. (i) Location. All waters of Green Bay, in the vicinity of Fish Creek Harbor, within the arc of a circle with a 1000-foot radius from the fireworks launch site located on a barge in position 45°07′52″ N, 087°14′37″ W (NAD 83).

(ii) Enforcement date and time. The first Saturday after July 4; 9 p.m. to 11 p.m.

(38) Celebrate Americafest Fireworks; Green Bay, WI.

(i) Location. All waters of the Fox River between the railroad bridge located 1.03 miles above the mouth of the Fox River and the Main Street Bridge located 1.58 miles above the mouth of the Fox River, including all waters of the turning basin east to the mouth of the East River.

(ii) Enforcement date and time. July 4; 9 p.m. to 11 p.m. If the July 4 fireworks are cancelled due to inclement weather, then this safety zone will be enforced July 5; 9 p.m. to 11 p.m.

(39) Marinette Fourth of July Celebration Fireworks; Marinette, WI.

(i) Location. All waters of the Menominee River, in the vicinity of Stephenson Island, within the arc of a circle with a 1000-foot radius from the fireworks launch site located in position 45°06′09″ N, 087°37′39″ W and all waters located between the Highway U.S. 41 bridge and the Hattie Street Dam (NAD 83).

(ii) Enforcement date and time. July 4; 9 p.m. to 11 p.m. If the July 4 fireworks are cancelled due to inclement weather, then this safety zone will be enforced July 5; 9 p.m. to 11 p.m.

(40) Evanston Fourth of July Fireworks; Evanston, IL.

(i) Location. All waters of Lake Michigan, in the vicinity of Centennial Park Beach, within the arc of a circle with a 500-foot radius from the fireworks launch site located in position 42°02′56″ N, 087°40′21″ W (NAD 83).

(ii) Enforcement date and time. July 4; 9 p.m. to 11 p.m. If the July 4 fireworks are cancelled due to inclement weather, then this safety zone will be enforced July 5; 9 p.m. to 11 p.m.

(41) Muskegon Summer Celebration Fireworks; Muskegon, MI.

(i) Location. All waters of Muskegon Lake, in the vicinity of Heritage Landing, within the arc of a circle with a 1000-foot radius from a fireworks barge located in position 43°14′00″ N, 086°15′50″ W (NAD 83).

(ii) Enforcement date and time. The Sunday following July 4; 9 p.m. to 11 p.m.

(iii) Impact on Special Anchorage Area regulations: Regulations for that portion of the Muskegon Lake East Special Anchorage Area, as described in 33 CFR 110.81(b), which are overlapped by this regulation, are suspended during this event. The remaining area of the Muskegon Lake East Special Anchorage Area is not impacted by this regulation and remains available for anchoring during this event.

(42) Gary Air and Water Show; Gary, IN.

(i) Location. All waters of Lake Michigan bounded by a line drawn from 41°37′42″ N, 087°16′38″ W; then east to 41°37′54″ N, 087°14′00″ W; then south to 41°37′30″ N, 087°13′56″ W; then west to 41°37′17″ N, 087°16′36″ W; then north returning to the point of origin (NAD 83).

(ii) Enforcement date and time. Friday, Saturday, and Sunday of the second weekend of July; from 10 a.m. to 9 p.m. each day.

(43) Milwaukee Air and Water Show; Milwaukee, WI.

(i) Location. All waters and adjacent shoreline of Lake Michigan and Bradford Beach located within a 4000-yard by 1000-yard rectangle. The rectangle will be bounded by the points beginning at points beginning at 43°02′50″ N, 087°52′36″ W; then northeast to 43°04′33″ N, 087°51′12″ W; then northwest to 43°04′40″ N, 087°51′29″ W; then southwest to 43°02′57″ N, 087°52′53″ W; the southeast returning to the point of origin (NAD 83).

(ii) Enforcement date and time. Thursday, Friday, Saturday, and Sunday of the first weekend of August; from 10 a.m. to 5 p.m. each day.

(44) Annual Trout Festival Fireworks; Kewaunee, WI.

(i) Location. All waters of Kewaunee Harbor and Lake Michigan within the arc of a circle with a 1000-foot radius from the fireworks launch site located in position 44°27′29″ N, 087°29′45″ W (NAD 83).

(ii) Enforcement date and time. Friday of the second complete weekend of July; 9 p.m. to 11 p.m.

(45) Michigan City Summerfest Fireworks; Michigan City, IN.

(i) Location. All waters of Michigan City Harbor and Lake Michigan within the arc of a circle with a 1000-foot radius from the fireworks launch site located in position 41°43′42″ N, 086°54′37″ W (NAD 83).

(ii) Enforcement date and time. Sunday of the first complete weekend of July; 9 p.m. to 11 p.m.

(46) Port Washington Fish Day Fireworks; Port Washington, WI.

(i) Location. All waters of Port Washington Harbor and Lake Michigan, in the vicinity of the WE Energies coal dock, within the arc of a circle with a 1000-foot radius from the fireworks launch site located in position 43°23′07″ N, 087°51′54″ W (NAD 83).

(ii) Enforcement date and time. The third Saturday of July; 9 p.m. to 11 p.m.

(47) Bay View Lions Club South Shore Frolics Fireworks; Milwaukee, WI.

(i) Location. All waters of Milwaukee Harbor and Lake Michigan, in the vicinity of South Shore Park, within the arc of a circle with a 500-foot radius from the fireworks launch site in position 42°59′42″ N, 087°52′52″ W (NAD 83).

(ii) Enforcement date and time. Friday, Saturday, and Sunday of the second or third weekend of July; 9 p.m. to 11 p.m. each day.

(48) Venetian Festival Fireworks; St. Joseph, MI.

(i) Location. All waters of Lake Michigan and the St. Joseph River, near the east end of the south pier, within the arc of a circle with a 1000-foot radius from the fireworks launch site located in position 42°06′48″ N, 086°29′15″ W (NAD 83).

(ii) Enforcement date and time. Saturday of the third complete weekend of July; 9 p.m. to 11 p.m.

(49) Joliet Waterway Daze Fireworks; Joliet, IL.

(i) Location. All waters of the Des Plaines River, at mile 287.5, within the arc of a circle with a 300-foot radius from the fireworks launch site located in position 41°31′15″ N, 088°05′17″ W (NAD 83).

(ii) Enforcement date and time. Friday and Saturday of the third complete weekend of July; 9 p.m. to 11 p.m. each day.

(50) EAA Airventure; Oshkosh, WI.

(i) Location. All waters of Lake Winnebago bounded by a line drawn from 43°57′30″ N, 088°30′00″ W; then south to 43°56′56″ N, 088°29′53″ W, then east to 43°56′40″ N, 088°28′40″ W; then north to 43°57′30″ N, 088°28′40″ W; then west returning to the point of origin (NAD 83).

(ii) Enforcement date and time. The last complete week of July, beginning Monday and ending Sunday; from 8 a.m. to 8 p.m. each day.

(51) Venetian Night Fireworks; Saugatuck, MI.

(i) Location. All waters of Kalamazoo Lake within the arc of a circle with a 500-foot radius from the fireworks launch site located on a barge in position 42°38′52″ N, 086°12′18″ W (NAD 83).

(ii) Enforcement date and time. The last Saturday of July; 9 p.m. to 11 p.m.

(52) Roma Lodge Italian Festival Fireworks; Racine, WI.

(i) Location. All waters of Lake Michigan and Racine Harbor within the arc of a circle with a 1000-foot radius from the fireworks launch site located in position 42°44′04″ N, 087°46′20″ W (NAD 83).

(ii) Enforcement date and time. Friday and Saturday of the last complete weekend of July; 9 p.m. to 11 p.m.

(53) Venetian Night Fireworks; Chicago, IL.

(i) Location. All waters of Monroe Harbor and all waters of Lake Michigan bounded by a line drawn from 41°53′03″ N, 087°36′36″ W; then east to 41°53′03″ N, 087°36′21″ W; then south to 41°52′27″ N, 087°36′21″ W; then west to 41°52′27″ N, 087°36′37″ W; then north returning to the point of origin (NAD 83).

(ii) Enforcement date and time. Saturday of the last weekend of July; 9 p.m. to 11 p.m.

(54) Port Washington Maritime Heritage Festival Fireworks; Port Washington, WI.

(i) Location. All waters of Port Washington Harbor and Lake Michigan, in the vicinity of the WE Energies coal dock, within the arc of a circle with a 1000-foot radius from the fireworks launch site located in position 43°23′07″ N, 087°51′54″ W (NAD 83).

(ii) Enforcement date and time. Saturday of the last complete weekend of July or the second weekend of August; 9 p.m. to 11 p.m.

(55) Grand Haven Coast Guard Festival Fireworks; Grand Haven, MI.

(i) Location. All waters of the Grand River between longitude 087°14′00″ W, near The Sag, then west to longitude 087°15′00″ W, near the west end of the south pier (NAD 83).

(ii) Enforcement date and time. First weekend of August; 9 p.m. to 11 p.m.

(56) Sturgeon Bay Yacht Club Evening on the Bay Fireworks; Sturgeon Bay, WI.

(i) Location. All waters of Sturgeon Bay, in the vicinity of the Sturgeon Bay Yacht Club, within the arc of a circle with a 500-foot radius from the fireworks launch site located on a barge in position 44°49′33″ N, 087°22′26″ W (NAD 83).

(ii) Enforcement date and time. The first Saturday of August; 9 p.m. to 11 p.m.

(57) Hammond Marina Venetian Night Fireworks; Hammond, IN.

(i) Location. All waters of Hammond Marina and Lake Michigan within the arc of a circle with a 1000-foot radius from the fireworks launch site located in position 41°41′53″ N, 087°30′43″ W (NAD 83).

(ii) Enforcement date and time. The first Saturday of August; 9 p.m. to 11 p.m.

(58) North Point Marina Venetian Festival Fireworks; Winthrop Harbor, IL.

(i) Location. All waters of Lake Michigan within the arc of a circle with a 1000-foot radius from the fireworks launch site located in position 42°28′55″ N, 087°47′56″ W (NAD 83).

(ii) Enforcement date and time. The second Saturday of August; 9 p.m. to 11 p.m.

(59) Waterfront Festival Fireworks; Menominee, MI.

(i) Location. All waters of Green Bay, in the vicinity of Menominee Marina, within the arc of a circle with a 1000-foot radius from a fireworks barge in position 45°06′17″ N, 087°35′48″ W (NAD 83).

(ii) Enforcement date and time. Saturday following first Thursday in August; 9 p.m. to 11 p.m.

(60) Ottawa Riverfest Fireworks; Ottawa, IL.

(i) Location. All waters of the Illinois River, at mile 239.7, within the arc of a circle with a 300-foot radius from the fireworks launch site located in position 41°20′29″ N, 088°51′20″ W (NAD 83).

(ii) Enforcement date and time. The first Sunday of August; 9 p.m. to 11 p.m.

(61) Algoma Shanty Days Fireworks; Algoma, WI.

(i) Location. All waters of Lake Michigan and Algoma Harbor within the arc of a circle with a 1000-foot radius from the fireworks launch site located in position 44°36′24″ N, 087°25′54″ W (NAD 83).

(ii) Enforcement date and time. Sunday of the second complete weekend of August; 9 p.m. to 11 p.m.

(62) New Buffalo Fireworks; New Buffalo, MI.

(i) Location. All waters of Lake Michigan and New Buffalo Harbor within the arc of a circle with a 1000-foot radius from the fireworks launch site located in position 41°48′09″ N, 086°44′49″ W (NAD 83).

(ii) Enforcement date and time. Will be enforced on either July 3rd or July 5th from 9 p.m. to 11 p.m.

(63) Pentwater Homecoming Fireworks; Pentwater, MI.

(i) Location. All waters of Lake Michigan and the Pentwater Channel within the arc of a circle with a 1000-foot radius from the fireworks launch site located in position 43°46′56.5″ N, 086°26′38″ W (NAD 83).

(ii) Enforcement date and time. Saturday following the second Thursday of August; 9 p.m. to 11 p.m.

(64) Chicago Air and Water Show; Chicago, IL.

(i) Location. All waters and adjacent shoreline of Lake Michigan and Chicago Harbor bounded by a line drawn from 41°55′54″ N at the shoreline, then east to 41°55′54″ N, 087°37′12″ W, then southeast to 41°54′00″ N, 087°36′00″ W (NAD 83), then southwestward to the northeast corner of the Jardine Water Filtration Plant, then due west to the shore.

(ii) Enforcement date and time. The third Thursday, Friday, Saturday, and Sunday of August; from 9 a.m. to 6 p.m. each day.

(65) Downtown Milwaukee BID 21 Fireworks; Milwaukee, WI. (i) Location. All waters of the Milwaukee River between the Kilbourn Avenue Bridge at 1.7 miles above the Milwaukee Pierhead Light to the State Street Bridge at 1.79 miles above the Milwaukee Pierhead Light.

(ii) Enforcement date and time. The third Thursday of November; 6 p.m. to 8 p.m.

(66) New Years Eve Fireworks; Chicago, IL.

(i) Location. All waters of Monroe Harbor and Lake Michigan within the arc of a circle with a 1000-foot radius from the fireworks launch site located on a barge in position 41°52′41″ N, 087°36′37″ W (NAD 83).

(ii) Enforcement date and time. December 31; 11 p.m. to January 1; 1 a.m.

(67) Cochrane Cup; Blue Island, IL.

(i) Location. All waters of the Calumet Saganashkee Channel from the South Halstead Street Bridge at 41°39′27″ N, 087°38′29″ W; to the Crawford Avenue Bridge at 41°39′05″ N, 087°43′08″ W; and the Little Calumet River from the Ashland Avenue Bridge at 41°39′7″ N, 087°39′38″ W; to the junction of the Calumet Saganashkee Channel at 41°39′23″ N, 087°39′00″ W (NAD 83).

(ii) Enforcement date and time. The first Saturday of May; 6:30 a.m. to 5 p.m.

(68) World War II Beach Invasion Re-enactment; St. Joseph, MI.

(i) Location. All waters of Lake Michigan in the vicinity of Tiscornia Park in St. Joseph, MI beginning at 42°06′55″ N, 086°29′23″ W; then west/northwest along the north breakwater to 42°06′59″ N, 086°29′41″ W; the northwest 100 yards to 42°07′01″ N, 086°29′44″ W; then northeast 2,243 yards to 42°07′50″ N, 086°28′43″ W; the southeast to the shoreline at 42°07′39″ N, 086°28′27″ W; then southwest along the shoreline to the point of origin (NAD 83).

(ii) Enforcement date and time. The last Saturday of June; 8 a.m. to 2 p.m.

(69) Ephraim Fireworks; Ephraim, WI.

(i) Location. All waters of Eagle Harbor and Lake Michigan within the arc of a circle with a 750-foot radius from the fireworks launch site located on a barge in position 45°09′18″ N, 087°10′51″ W (NAD 83).

(ii) Enforcement date and time. The third Saturday of June; 9 p.m. to 11 p.m.

(70) Thunder on the Fox; Elgin, IL.

(i) Location. All waters of the Fox River, near Elgin, Illinois, between Owasco Avenue, located at approximate position 42°03′06″ N, 088°17′28″ W and the Kimball Street bridge, located at approximate position 42°02′31″ N, 088°17′22″ W (NAD 83).

(ii) Enforcement date and time. Friday, Saturday, and Sunday of the third weekend in June; 10 a.m. to 7 p.m. each day

(71) Olde Ellison Bay Days Fireworks Display, Ellison Bay, Wisconsin.

(i) Location. All waters of Lake Michigan, in the vicinity of Ellison Bay Wisconsin, within a 400 foot radius from the fireworks launch site located on a barge in position 45°15′36″ N, 087°05′03″ W (NAD 83).

(ii) Enforcement date and time. The fourth Saturday of June; 9 p.m. to 10 p.m.

(72) Town of Porter Fireworks Display, Porter Indiana.

(i) Location. All waters of Lake Michigan within the arc of a circle with a 1000 foot radius from the fireworks launch site located in position 41°39′56″ N, 087°03′57″ W (NAD 83).

(ii) Enforcement date and time. The first Saturday of July; 8:45 p.m. to 9:30 p.m.

(73) City of Menasha 4th of July Fireworks, Lake Winnebego, Menasha, Wisconsin.

(i) Location. All U.S. navigable waters of Lake Michigan and the Fox River within the arc of a circle with a 800 foot radius from the fireworks launch site at position 41°39′56″ N, 087°03′57″ W (NAD 83).

(ii) Enforcement date and time. July 4; 9 p.m. to 10:30 p.m.

(74) ISAF Nations Cup Grand Final Fireworks Display, Sheboygan, Wisconsin.

(i) Location. All waters of Lake Michigan and Sheboygan Harbor, in the vicinity of the south pier in Sheboygan Wisconsin, within a 500 foot radius from the fireworks launch site located on land in position 43°44′55″ N, 087°41′51″ W (NAD 83).

(ii) Enforcement date and time. September 13; 7:45 p.m. to 8:45 p.m.

(75) Magnificent Mile Fireworks Display, Chicago, Illinois.

(i) Location. All waters and adjacent shoreline of the Chicago River bounded by the arc of the circle with a 210 foot radius from the fireworks launch site with its center in approximate position of 41°53′21″ N, 087°37′24″ W (NAD 83).

(ii) Enforcement date and time. The third weekend in November; sunset to termination of display.

(b) Definitions. The following definitions apply to this section:

(1) Designated representative means any Coast Guard commissioned, warrant, or petty officer designated by the Captain of the Port, Sector Lake Michigan, to monitor a safety zone, permit entry into a zone, give legally enforceable orders to persons or vessels within a safety zone, and take other actions authorized by the Captain of the Port, Sector Lake Michigan.

(2) Public vessel means a vessel that is owned, chartered, or operated by the United States, or by a State or political subdivision thereof.

(c) Regulations.

(1) The general regulations in 33 CFR 165.23 apply.

(2) All persons and vessels must comply with the instructions of the Captain of the Port, Sector Lake Michigan, or his or her designated representative. Upon being hailed by the U.S. Coast Guard by siren, radio, flashing light or other means, the operator of a vessel shall proceed as directed.

(3) All vessels must obtain permission from the Captain of the Port, Sector Lake Michigan, or his or her designated representative to enter, move within or exit a safety zone established in this section when the safety zone is enforced. Vessels and persons granted permission to enter one of the safety zones listed in this section shall obey all lawful orders or directions of the Captain of the Port, Sector Lake Michigan, or his or her designated representative. While within a safety zone, all vessels shall operate at the minimum speed necessary to maintain a safe course.

(d) Suspension of Enforcement. If the Captain of the Port, Sector Lake Michigan, suspends enforcement of any of these zones earlier than listed in this section, the Captain of the Port, Sector Lake Michigan, or his or her designated representative will notify the public by suspending the respective Broadcast Notice to Mariners.

(e) Exemption. Public vessels, as defined in paragraph (b) of this section, are exempt from the requirements in this section.

(f) Waiver. For any vessel, the Captain of the Port, Sector Lake Michigan, or his or her designated representative may waive any of the requirements of this section, upon finding that operational conditions or other circumstances are such that application of this section is unnecessary or impractical for the purposes of safety or environmental safety.

Dated: February 2, 2012.
M.W. Sibley,
Captain, U.S. Coast Guard, Captain of the Port Lake Michigan.

[FR Doc. 2012-4390 Filed 2-24-12; 8:45 am]

BILLING CODE 9110-04-P